NUCLEAR REGULATORY COMMISSION

[Docket No. NRC-2013-0054]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 16, 2013 (78 FR 22562).

1. Type of submission, new, revision, or extension: New.

2. The title of the information collection: NRC Form 850A, “Request for NRC Contractor Building Access,” NRC Form 850B, “Request for NRC Contractor Information Technology Access Authorization,” and NRC Form 850C, “Request for NRC Contractor Security Clearance.”

3. Current OMB approval number: 3150-XXXX.

4. The form numbers if applicable: NRC Form 850A, NRC Form 850B, and NRC Form 850C.

5. How often the collection is required: On occasion.

6. Who will be required or asked to report: NRC contractors, subcontractors and other individuals who are not NRC employees.

7. An estimate of the number of annual responses: 500.

8. The estimated number of annual respondents: 500.

9. An estimate of the total number of hours needed annually to complete the requirement or request: 85.

10. Abstract: Part 10 of Title 10 of the Code of Federal Regulations (10 CFR), “Criteria and Procedures for Determining Eligibility for Access to Restricted Data or National Security Information or an Employment Clearance,” establishes requirements that individuals requiring an access authorization and/or employment clearance must have an investigation of their background. The NRC Forms 850A, 850B, and 850C will be used by the NRC to obtain information on NRC contractors, subcontractors, and other individuals who are not NRC employees and require access to the NRC buildings, IT systems, sensitive information, sensitive unclassified information, or classified information.

The public may examine and have copied for fee publicly available documents, including the final supporting statement, at the NRC's Public Document Room, Room O-1F21, One White Flint North, 11555 Rockville Pike, Rockville, Maryland 20852. The OMB clearance requests are available at the NRC's Web site: http://www.nrc.gov/public-involve/doc-comment/omb/.

The document will be available on the NRC's home page site for 60 days after the signature date of this notice. Comments and questions should be directed to the OMB reviewer listed below by September 9, 2013. Comments received after this date will be considered if it is practical to do so, but assurance of consideration cannot be given to comments received after this date.

Chad Whiteman, Desk Officer,

Office of Information and Regulatory Affairs (3150-XXXX),

NEOB-10202,

Office of Management and Budget,

Washington, DC 20503.

Comments can also be emailed to Chad_S_Whiteman@omb.eop.gov or submitted by telephone at 202-395-4718.

The NRC Clearance Officer is Tremaine Donnell, 301-415-6258.

Dated at Rockville, Maryland, this 5th day of August, 2013.
For the Nuclear Regulatory Commission.
Tremaine Donnell,
NRC Clearance Officer, Office of Information Services.

[FR Doc. 2013-19173 Filed 8-7-13; 8:45 am]

BILLING CODE 7590-01-P